DEPARTMENT OF ENERGY

Federal Energy Regulatory Commission

Combined Notice of Filings #1

Take notice that the Commission received the following electric rate filings:

Docket Numbers: ER22-983-009.

Applicants: ISO New England Inc., New England Power Pool Participants Committee.

Description: Compliance filing: ISO New England Inc. submits tariff filing per 35: Filing to Comply with May 2024 Order Regarding Order No. 2222 Compliance to be effective 11/1/2026.

Filed Date: 7/22/24.

Accession Number: 20240722-5110.

Comment Date: 5 p.m. ET 8/12/24.

Docket Numbers: ER24-1526-001; ER24-1528-001.

Applicants: New Market Solar ProjectCo 2, LLC, New Market Solar ProjectCo 1, LLC.

Description: New Market Solar ProjectCo 1, LLC et al. submit response to FERC's 05/13/2024 deficiency letter re the 03/18/2024 filing.

Filed Date: 6/12/24.

Accession Number: 20240612-5253.

Comment Date: 5 p.m. ET 7/26/24.

Docket Numbers: ER24-2560-000.

Applicants: Energy Prepay I, LLC.

Description: Baseline eTariff Filing: Baseline new 2024 to be effective 7/20/2024.

Filed Date: 7/19/24.

Accession Number: 20240719-5226.

Comment Date: 5 p.m. ET 8/9/24.

Docket Numbers: ER24-2561-000.

Applicants: PacifiCorp.

Description: 205(d) Rate Filing: Powerex Cond & Firm LT PTP (SA 1035) to be effective 7/1/2024.

Filed Date: 7/22/24.

Accession Number: 20240722-5036.

Comment Date: 5 p.m. ET 8/12/24.

Docket Numbers: ER24-2562-000.

Applicants: PacifiCorp.

Description: 205(d) Rate Filing: Powerex Cond & Firm LT PTP (SA 1036) to be effective 7/1/2024.

Filed Date: 7/22/24.

Accession Number: 20240722-5037.

Comment Date: 5 p.m. ET 8/12/24.

Docket Numbers: ER24-2563-000.

Applicants: Sheetz Energy Inc.

Description: Baseline eTariff Filing: Sheetz Initial MBRA Tariff to be effective 7/23/2024.

Filed Date: 7/22/24.

Accession Number: 20240722-5052.

Comment Date: 5 p.m. ET 8/12/24.

Docket Numbers: ER24-2564-000.

Applicants: Mid-Atlantic Offshore Development, LLC, PJM Interconnection, L.L.C.

Description: 205(d) Rate Filing: Mid-Atlantic Offshore Development, LLC submits tariff filing per 35.13(a)(2)(iii: MAOD submits OATT Attachment H-35, H-35A and H-35B to be effective 9/21/2024.

Filed Date: 7/22/24.

Accession Number: 20240722-5062.

Comment Date: 5 p.m. ET 8/12/24.

Docket Numbers: ER24-2565-000.

Applicants: Duke Energy Carolinas, LLC.

Description: 205(d) Rate Filing: DEC-CEPCI Amended NITSA SA No. 447 to be effective 10/1/2024.

Filed Date: 7/22/24.

Accession Number: 20240722-5099.

Comment Date: 5 p.m. ET 8/12/24.

Docket Numbers: ER24-2566-000.

Applicants: Northern States Power Company, a Minnesota corporation.

Description: 205(d) Rate Filing: 2024-07-22 CapX Brookings CMA—757 to be effective 6/21/2024.

Filed Date: 7/22/24.

Accession Number: 20240722-5166.

Comment Date: 5 p.m. ET 8/12/24.

Docket Numbers: ER24-2567-000.

Applicants: Northern States Power Company, a Minnesota corporation.

Description: 205(d) Rate Filing: 2024-07-22 CapX Brookings OMA—537 to be effective 6/21/2024.

Filed Date: 7/22/24.

Accession Number: 20240722-5173.

Comment Date: 5 p.m. ET 8/12/24.

Docket Numbers: ER24-2568-000.

Applicants: Northern States Power Company, a Minnesota corporation.

Description: 205(d) Rate Filing: 2024-07-22 CapX Brookings TCEA—538 to be effective 6/21/2024.

Filed Date: 7/22/24.

Accession Number: 20240722-5184.

Comment Date: 5 p.m. ET 8/12/24.

Docket Numbers: ER24-2569-000.

Applicants: PJM Interconnection, L.L.C.

Description: Tariff Amendment: Notice of Cancellation of SA No. 6529 Designated Entity Agreement to be effective 9/21/2024.

Filed Date: 7/22/24.

Accession Number: 20240722-5186.

Comment Date: 5 p.m. ET 8/12/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: July 22, 2024.
Debbie-Anne A. Reese,
Acting Secretary.

[FR Doc. 2024-16523 Filed 7-25-24; 8:45 am]

BILLING CODE 6717-01-P